DEPARTMENT OF HOMELAND SECURITY

Federal Emergency Management Agency

[Docket ID FEMA-2012-0003; Internal Agency Docket No. FEMA-B-1266]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before December 10, 2012.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1266, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information exchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at www.fema.gov/pdf/media/factsheets/2010/srp_fs.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community Map Repository Address
City and County of Broomfield, Colorado
Maps Available for Inspection Online at: http://www.bakeraecom.com/index.php/colorado/broomfield/
City and County of Broomfield | City Hall Engineering Department, 1 Descombes Drive, Broomfield, CO 80020.
City and County of Denver, Colorado
Maps Available for Inspection Online at: http://www.bakeraecom.com/index.php/colorado/denver/
City and County of Denver | Department of Public Works, 201 West Colfax Avenue, Denver, CO 80202.
Yavapai County, Arizona, and Incorporated Areas
Maps Available for Inspection Online at: http://www.r9map.org/Pages/ProjectDetailsPage.aspx?choLoco=72&choProj=377
City of Cottonwood | Public Works Department, 1490 West Mingus Avenue, Cottonwood, AZ 86326.
Town of Camp Verde | Town Clerk's Office, 473 South Main Street, Suite 102, Camp Verde, AZ 86322.
Town of Clarkdale | Public Works Department, 890 Main Street, Clarkdale, AZ 86324.
Unincorporated Areas of Yavapai County | Yavapai County Flood Control District Office, 500 South Marina Street, Prescott, AZ 86303.
Yuma County, Arizona, and Incorporated Areas
Maps Available for Inspection Online at: http://www.r9map.org/Pages/Arizona.aspx?choState=Arizona
City of Yuma | Community Planning Department, 1 City Plaza, Yuma, AZ 85364.
Town of Wellton | Town Hall, 28634 Oakland Avenue, Wellton, AZ 85356.
Unincorporated Areas of Yuma County | Yuma County Department of Development Services, 2351 West 26th Street, Yuma, AZ 85364.
Hampden County, Massachusetts (All Jurisdictions)
Maps Available for Inspection Online at: http://www.starr-team.com/starr/RegionalWorkspaces/RegionI/HampdenCountyMA/Preliminary%20Maps/Forms/AllItems.aspx
City of Chicopee | City Hall Annex, 274 Front Street, Fourth Floor, Chicopee, MA 01013.
City of Holyoke | Building Department, 20 Korean Veterans Plaza, Holyoke, MA 01040.
City of Springfield | Planning and Economic Development, 70 Tapley Street, Springfield, MA 01104.
City of Westfield | Municipal Building, 59 Court Street, Westfield, MA 01085.
Town of Agawam | Inspection Service Department, 1000 Suffield Street, Agawam, MA 01001.
Town of Blandford | Town Hall, 1 Russell Stage Road, Blandford, MA 01008.
Town of Brimfield | Town Hall, 21 Main Street, Brimfield, MA 01010.
Town of Chester | Town Hall, 15 Middlefield Road, Chester, MA 01011.
Town of East Longmeadow | Town Hall, 60 Center Square, East Longmeadow, MA 01028.
Town of Granville | Town Hall, 707 Main Road, Granville, MA 01034.
Town of Hampden | Town Hall, 625 Main Street, Hampden, MA 01036.
Town of Holland | Town Hall, 27 Sturbridge Road, Holland, MA 01521.
Town of Longmeadow | Town Hall, 20 Williams Street, Longmeadow, MA 01106.
Town of Ludlow | Town Hall, 488 Chapin Street, Third Floor, Room 305, Ludlow, MA 01056.
Town of Monson | Town Hall, 29 Thompson Street, Monson, MA 01057.
Town of Montgomery | Town Hall, 161 Main Road, Montgomery, MA 01085.
Town of Palmer | Town Hall, 4417 Main Street, Palmer, MA 01069.
Town of Russell | Town Hall, 65 Main Street, Russell, MA 01071.
Town of Southwick | Town Office, 454 College Highway, Southwick, MA 01077.
Town of Tolland | Town Hall, 241 West Granville Road, Tolland, MA 01034.
Town of Wales | Town Hall, 3 Hollow Road, Wales, MA 01081.
Town of West Springfield | Town Hall, 26 Central Street, Suite 17, West Springfield, MA 01089.
Town of Wilbraham | Town Office, 240 Springfield Street, Wilbraham, MA 01095.
Charlevoix County, Michigan (All Jurisdictions)
Maps Available for Inspection Online at: http://www.starr-team.com/starr/RegionalWorkspaces/RegionV/CharlevoixCoMI/SitePages/Home.aspx
City of Boyne City | City Hall, 319 North Lake Street, Boyne City, MI 49712.
City of Charlevoix | City Hall, 210 State Street, Charlevoix, MI 49720.
City of East Jordan | City Hall, 201 Main Street, East Jordan, MI 49727.
Township of Bay | Bay Township Hall, 05045 Boyne City Road, Boyne City, MI 49712.
Township of Boyne Valley | Boyne Valley Township Hall, 2489 Railroad Street, Boyne Falls, MI 49713.
Township of Charlevoix | Township Hall, 12491 Waller Road, Charlevoix, MI 49720.
Township of Evangeline | Evangeline Township Hall, 02746 Wildwood Harbor Road, Boyne City, MI 49712.
Township of Eveline | Eveline Township Hall, 08525 Ferry Road, East Jordan, MI 49727.
Township of Hayes | Hayes Township Hall, 09195 Old U.S. Route 31 North, Charlevoix, MI 49720.
Township of Marion | Marion Township Hall, 03735 Marion Center Road, Charlevoix, MI 49720.
Township of Melrose | Melrose Township Hall, 04289 M-75 North, Walloon Lake, MI 49796.
Township of Norwood | Norwood Township Hall, 19759 Lake Street, Charlevoix, MI 49720.
Township of Peaine | Peaine Township Hall, 36825 Kings Highway, Beaver Island, MI 49782.
Township of South Arm | South Arm Township Hall, 02811 M-66 South, East Jordan, MI 49727.
Township of St. James | St. James Township Hall, 37735 Michigan Avenue, Beaver Island, MI 49782.
Hillsdale County, Michigan (All Jurisdictions)
Maps Available for Inspection Online at: http://www.starr-team.com/starr/regionalworkspaces/regionv/hillsdalemi/sitepages/home.aspx
City of Hillsdale | City Hall, 97 North Broad Street, Hillsdale, MI 49242.
City of Litchfield | City Council Room, 221 Jonesville Street, Litchfield, MI 49252.
Township of Adams | Adams Township Hall, 5675 Knowles Road, North Adams, MI 49262.
Township of Allen | 139 West Chicago Road, Allen, MI 49227.
Township of Cambria | Cambria Township Hall, 7249 Cambria Road, Hillsdale, MI 49242.
Township of Camden | 13500 Bishop Road, Montgomery, MI 49255.
Township of Fayette | Fayette Township Hall, 211 North Street, Jonesville, MI 49250.
Township of Hillsdale | Township Hall, 2985 West Bacon Road, Hillsdale, MI 49242.
Township of Jefferson | Jefferson Township Hall, 2837 Bird Lake Road South, Osseo, MI 49266.
Township of Litchfield | Township Hall, 9596 Homer Road, Litchfield, MI 49252.
Township of Reading | Township Hall, 5355 South Edon Road/M-49, Reading, MI 49274.
Township of Scipio | 11740 French Road, Litchfield, MI 49252.
Village of Jonesville | Village Hall, 265 East Chicago Street, Jonesville, MI 49250.
Florence County, South Carolina, and Incorporated Areas
Maps Available for Inspection Online at: http://www.dnr.sc.gov/water/flood/comaps.html
City of Florence | Planning, Research and Development, 218 West Evans Street, Florence, SC 29501.
City of Johnsonville | City Hall, 111 West Broadway Street, Johnsonville, SC 29555.
City of Lake City | City Hall, 202 Kelley Street, Lake City, SC 29560.
Town of Coward | Town Office, 3720 U.S. Route 52, Coward, SC 29530.
Town of Olanta | Town Hall, 365 North Magnolia Avenue, Olanta, SC 29114.
Town of Pamplico | Town Hall, 201 River Road, Pamplico, SC 29583.
Town of Quinby | Town Hall, 611 East Ashby Road, Quinby, SC 29506.
Town of Scranton | Town Hall, 1818 U.S. Route 52, Scranton, SC 29591.
Town of Timmonsville | Town Hall, 115 West Main Street, Timmonsville, SC 29161.
Unincorporated Areas of Florence County | Florence County Planning Department, 518 South Irby Street, Florence, SC 29501.

(Catalog of Federal Domestic Assistance No. 97.022, “Flood Insurance.”)

Dated: September 5, 2012.
Sandra K. Knight,
Deputy Associate Administrator for Mitigation, Department of Homeland Security, Federal Emergency Management Agency.

[FR Doc. 2012-22297 Filed 9-10-12; 8:45 am]

BILLING CODE 9110-12-P